SURFACE TRANSPORTATION BOARD

[Docket No. FD 36459]

Great Basin and Northern Railroad—Change in Operators Exemption—City of Ely and Nevada Northern Railway Foundation

Great Basin and Northern Railroad (Great Basin), a Class III rail carrier, has filed a verified notice of exemption pursuant to 49 CFR 1150.41 to assume operations over approximately 0.9 miles of rail line between milepost 127.0 and milepost 127.9 at or near McGill Junction in White Pine County, Nev. (the Line). The Line is owned by the City of Ely (the City) and the Nevada Northern Railway Foundation (the Foundation), and is currently operated by S&S Shortline Leasing, LLC (S&S). Great Basin states that it anticipates reaching an agreement with the City and the Foundation in the near future for rights to operate over the Line. According to Great Basin, it will replace S&S as the operator of the Line, and S&S has agreed to discontinue its service over the Line concurrent with its replacement by Great Basin.

Great Basin states that the Line is a segment of a longer rail line running from milepost 0.0 at or near Cobre, Nev., to and beyond McGill Junction. In addition to the Line, S&S currently operates the portion of the longer line from milepost 0.0 to milepost 127.0. See S&S Shortline Leasing, LLC—Operation Exemption—City of Ely, Nev., et al., FD 35284 (STB served Aug. 14, 2009). Great Basin states that it operates the remaining portion of the line from milepost 127.9 to milepost 146.1 at or near Keystone, Nev., and two branch lines connecting to this line segment. See Great Basin & N.R.R.—Change in Operators Exemption—City of Ely, et al., FD 34506 (STB served June 7, 2004) (addressing the portion of the line from milepost 127.9 to milepost 146.1).

Great Basin certifies that the proposed transaction does not involve a provision or agreement that may limit future interchange with a third-party connecting carrier. Great Basin also certifies that its projected revenues as a result of the transaction will not result in the creation of a Class II or Class I rail carrier and will not exceed $5 million.

Under 49 CFR 1150.42(b), a change in operator requires that notice be given to shippers. Great Basin states that no active rail shippers are on or served by the Line.

The transaction may be consummated on or after December 13, 2020, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 4, 2020 (at least seven days before the exemption becomes effective).

All pleadings, referring to Docket No. FD 36459, should be filed with the Surface Transportation Board via e-filing on the Board's website. In addition, a copy of each pleading must be served on Great Basin's representative, Jeffrey O. Moreno, Thompson Hine LLP, 1919 M Street NW, Suite 700, Washington, DC 20036.

According to Great Basin, this action is categorically excluded from environmental review under 49 CFR 1105.6(c) and from historic preservation reporting requirements under 49 CFR 1105.8(b).

Decided: November 20, 2020.
By the Board, Allison C. Davis, Director, Office of Proceedings.
Tammy Lowery,
Clearance Clerk.

[FR Doc. 2020-26201 Filed 11-25-20; 8:45 am]

BILLING CODE 4915-01-P